DELEWARE RIVER BASIN COMMISSION

Notice of Commission Meeting and Public Hearing

Notice is hereby given that the Delaware River Basin Commission will hold an informal conference followed by a public hearing on Wednesday, February 6, 2002. The hearing will be part of the Commission's regular business meeting. Both the conference session and business meeting are open to the public and will be held at the Commission offices at 25 State Police Drive, West Trenton, New Jersey.

The conference among the Commissioners and staff will begin at 9:30 a.m. Topics of discussion will include an update on the Comprehensive Plan (CP) and a proposed resolution concerning development of management strategies for implementing the goals and objectives of the CP; a Water Quality Advisory Committee proposal concerning the Delaware Riverkeeper's “Petition To Designate The Lower Delaware River As Special Protection Waters And Other Matters;” a report on the PCB TMDL development effort and proposal to modify the composition of the PCB Expert Panel within the previously approved budget authority; a report on Delaware Estuary Program activities; a proposal to fund a pilot Internet GIS interactive mapping application; a proposed resolution to enter into a contract with the Delaware Riverkeeper Network to provide support for the Little Neshaminy Watershed Study; a proposal to release for public comment the Draft Guidelines for Developing an Integrated Resource Plan Under the Delaware River Basin Commission Southeastern Pennsylvania Ground Water Protected Area Regulations; and a report on developments pursuant to Resolution No. 2001-32, declaring a drought emergency for the purpose of conservation of regional reservoir storage.

The subjects of the public hearing to be held during the 1:00 p.m. business meeting include, in addition to the dockets listed below, a resolution adopting the 2002 Water Resources Program.

The dockets scheduled for public hearing are as follows:

1. Holdover Project: Philadelphia Suburban Water Company D-98-11 CP. A project to withdraw up to 4.0 million gallons per day (mgd) from the East Branch Brandywine Creek for public water supply when streamflow exceeds 25 percent of the average daily flow and is also greater than 90 mgd for the Brandywine River at Chadds Ford. The applicant proposes to serve portions of Wallace, East Brandywine and West Brandywine Townships, all in Chester County, Pennsylvania. The intake will be situated on the east bank of the East Branch Brandywine Creek just south of Marshall Road in Wallace Township. On a yearly use basis, withdrawal is expected to average approximately 0.76 mgd. When available, the raw water will be conveyed for storage in a nearby abandoned quarry (known as Cornog Quarry) with an estimated storage capacity of approximately 100 mg. Withdrawals ranging from 0.5 mgd to 1.0 mgd will then be made from the quarry, treated by a proposed new filter plant, and distributed to the project service area.

2. Kiamesha Artesian Spring Water Company D-90-68 CP RENEWAL. A ground water withdrawal renewal project to supply up to 9.8 mg/30 days of water to the applicant's public water distribution system from the existing Filtration Plant Well and Fraser Road Well in the Upper Devonian aquifer. No increase in allocation is proposed. The project is located in the Town of Thompson, Sullivan County, New York.

3. Metachem Products LLC D-90-96 RENEWAL. A ground water remediation withdrawal project to continue withdrawal of 10.8 mg/30 days of water from existing Wells Nos. RW-1, 2, 3, 4 and 5 in the Columbia Formation in the Red Lion Creek watershed. The project is located near the north side of Governor Lea Road approximately 1.4 miles north of the Routes 98-72 intersection near Delaware City, New Castle County, Delaware.

4. Washington Township Municipal Utilities Authority D-98-6 CP. A ground water withdrawal project to supply up to 248.2 mg/30 days of water to the applicant's distribution system and to permit new Wells Nos. 19 and 20. No increase in allocation is proposed. The project is located in Washington Township, Gloucester County, New Jersey.

5. MBNA America D-2001-7. A ground water withdrawal project to supply up to 4l2 mg/30 days from new Wells Nos. 10 and 14 to supplement supply from its White Clay Creek intake for irrigation of the applicant's Deerfield Golf & Tennis Club and to retain the existing total combined withdrawal from all sources to 6.75 mg/30 days. The project wells are located in the Wissahickon Formation in New Castle County, Delaware.

6. Muhlenberg Township Authority D-2001-30 CP. A ground water withdrawal project to supply up to 10.8 mg/30 days of water to the applicant's public water supply system from new Well No. 15 in the Leithsville Formation and to increase the existing withdrawal from all wells to 168.5 mg/30 days. The project is located in the Willow Creek watershed in Ontelaunee Township, Berks County, Pennsylvania.

7. Conectiv Mid-Merit, Inc. D-2001-31. An electric power project which entails an average withdrawal of 3.5 mgd of water from the Lehigh River via a proposed new intake for cooling tower make-up. An average of 1.82 mgd of cooling tower blow-down will be discharged back to the Lehigh River via an outfall to be constructed downstream from the project intake. Two 550 MW natural gas-fired power modules will be constructed on a brownfield site in the southern part of the City of Bethlehem, Northampton County, Pennsylvania on land owned by the Bethlehem Steel Corp. The City of Bethlehem will supply an average of 0.31 mgd of potable water to the applicant for sanitary and process water requirements, of which approximately 0.02 mgd will be returned to Bethlehem's sewage treatment plant for treatment. The overall average water demand will be 3.81 mgd, and the overall consumptive use is projected at 52 percent or about 1.97 mgd. The power station will be designed to utilize low-sulfur distillate fuel as a secondary fuel supply and to provide electric power to the PJM grid.

8. City of Dover D-2001-43 CP. A ground water withdrawal project to supply up to 19.44 and 17.28 mg/30 days of water to the applicant's public water supply system from replacement Well No. 13 and from new Well No. 15, respectively, and retain the existing withdrawal from all wells at 438.24 mg/30 days. Both Well No. 13 and Well No. 15 are in the Cheswold Aquifer. The project is located in the St. Jones River watershed in Kent County, Delaware.

9. Lejeune Properties, Inc. D-2001-45. A project to construct a 0.086 mgd sewage treatment plant (STP) to serve the River Crest Residential Golf Course Community in Upper Providence Township, Montgomery County, Pennsylvania. The proposed STP is located on the applicant's 283-acre tract off Black Rock Road and State Route 29, in the Schuylkill River watershed. Following tertiary level, effluent will be used to spray irrigate the on-site golf course, but during the winter, STP effluent will be discharged to an unnamed tributary of the Schuylkill River.

10. Little Washington Wastewater Company D-2001-46. A project to construct a 0.085 mgd STP to serve the Somerset Development in Newtown Township, Delaware County, Pennsylvania. The project is located along the western side of Newtown Road about a quarter-mile north of its intersection with Gradyville Road. The project is designed to provide tertiary treatment via an anoxic/oxic process and features chemical addition and effluent filtration. The proposed STP will discharge to an unnamed tributary of Hunter Run in the Crum Creek watershed.

11. Municipal Authority of the Township of Branch D-2001-47 CP. A project to construct a 0.45 mgd STP to serve the predominantly residential service area of Branch and Cass Townships, both in Schuylkill County, Pennsylvania. The proposed plant is designed to provide advanced secondary treatment and will discharge to the West Branch Schuylkill River. The project is located just south of U.S. Route 209 off Railroad Avenue in Branch Township, Schuylkill County, Pennsylvania.

12. Superior Water Company D-2001-48 CP. A ground water withdrawal project to supply up to 4.5 mg/30 days of water to the applicant's public water supply system from new Well No. 1 in the Hammer Creek Formation. The project is located in the Schuylkill River watershed in North Coventry Township, Chester County, in the Southeastern Pennsylvania Ground Water Protected Area.

13. Citizens Utilities Water Company of Pennsylvania D-2001-49 CP. An application for approval of a ground water withdrawal project to supply up to 5.18 mg/30 days of water to the applicant's public water supply system from new Well No. DG-12A in the Brunswick Formation and to increase the existing withdrawal from all wells to 29.14 mg/30 days. The project is located in the Magneton Creek watershed in Amity Township, Berks County, Pennsylvania.

14. Village of Beach Lake D-2001-52. A project to construct a 0.09 mgd STP to serve residents of Beach Lake Village in Berlin Township, Wayne County, Pennsylvania. The existing subsurface grainfield system will be replaced by an intermittent cycle extended aeration system, which is designed to provide advanced secondary level of treatment prior to discharge to Beach Lake Creek in the Masthope Creek Watershed. The proposed plant will be constructed about one mile east of Beach Lake, just south of State Route 652 and is located in the drainage area to the DRBC Special Protection Waters.

15. Mountainside Farms, Inc. D-2001-53. A project to upgrade and expand a 0.036 mgd industrial waste treatment plant (IWTP) to process 0.051 mgd from the Mountainside Farms, Inc. milk processing facility located about one quarter mile off State Route 30, in the Town of Roxbury, Delaware County, New York. The project is located in the drainage area to the DRBC Special Protection Waters. Following tertiary treatment, the IWTP effluent will continue to percolate to ground water through six exfiltration ponds in the East Branch Delaware River Watershed.

16. The Ace Center D-2001-57. A ground water withdrawal project to supply up to 12.7 mg/30 days of water to the applicant's golf course irrigation system from new Wells Nos. 1 and 4 in the Wissahickon Formation. The project is located in the Schuylkill River watershed in Whitemarsh Township, Montgomery County, in the Southeastern Pennsylvania Ground Water Protected Area.

In addition to the public hearing items, the Commission will address the following at its 1:00 p.m. business meeting: Minutes of the December 18, 2001 business meeting; announcements; a report on Basin hydrologic conditions; reports by the Executive Director and General Counsel; action on an untimely request for hearing by Mr. Gary Eckenrode concerning Docket D-2001-13 CP of the Northampton Bucks County Municipal Authority; a directed appearance by Delaware Estuary point source dischargers Motiva Enterprises LLC, Metachem Products, LLC and AFG Industries, Inc. to report on their progress toward submitting overdue PCB monitoring data required by the Commission; a resolution concerning the development of management strategies for implementing the goals and objectives of the Comprehensive Plan; a resolution to fund a pilot Internet GIS interactive mapping application; a resolution to enter into a contract with the Delaware Riverkeeper Network to provide support for the Little Neshaminy Watershed Study; a resolution for the minutes expanding the Watershed Advisory Council to include as many as 40 members; and public dialogue.

Documents relating to the dockets and other items may be examined at the Commission's offices. Preliminary dockets are available in single copies upon request. Please contact Thomas L. Brand at 609-883-9500 ext. 221 with any docket-related questions. Persons wishing to testify at this hearing are requested to register in advance with the Commission Secretary at 609-883-9500 ext. 203.

Individuals in need of an accommodation as provided for in the Americans With Disabilities Act who wish to attend the hearing should contact the Commission Secretary, Pamela M. Bush, directly at 609-883-9500 ext. 203 or through the New Jersey Relay Service at 1-800-852-7899 (TTY), to discuss how the Commission may accommodate your needs.

Dated: January 22, 2002.
Robert Tudor,
Commission Secretary and, Assistant General Counsel.

[FR Doc. 02-1973 Filed 1-25-02; 8:45 am]

BILLING CODE 6360-01-P